DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 340B Drug Pricing Program Survey—NEW

Section 340B of the Public Health Act provides that a manufacturer that sells outpatient drugs to covered entities must agree to charge a price that will not exceed the amount determined under a statutory formula. The entities eligible to access such drug pricing (i.e., certain HHS grantees, certain disproportionate share hospitals, and other specified categories of entities) total approximately 10,000 sites. Most of these safety net providers serve the economically disadvantaged or medically uninsured.

A customer survey is being developed to collect information by mail on various aspects of the 340B Drug Pricing Program, including whether information on the program is reaching the covered entities, reasons some entities are not participating, satisfaction with the savings realized, and interest in possible modifications to the program. Both participating and nonparticipating entities will be included in the survey. The results will be used to improve the design and management of the program.

The estimated response burden is as follows:

Respondents | Number of respondents | Responses per respondent | Total responses | Minutes per response | Total burden hours
Covered Entities | 1,000 | 1 | 1,000 | .65 | 650

Send comments to Susan G. Queen, Ph.D., HRSA Reports Clearance Officer, Room 14-45, Parklawn Building, 5600 Fishers Lane, Rockville, MD 20857. Written comments should be received within 60 days of this notice.

Dated: April 16, 2003.
Jane M. Harrison,
Director, Division of Policy Review and Coordination.

[FR Doc. 03-10075 Filed 4-23-03; 8:45 am]

BILLING CODE 4165-15-P